DEPARTMENT OF THE TREASURY

Internal Revenue Service

26 CFR Parts 53 and 301

[REG-142039-06; REG-139268-06]

RIN 1545-BG18; 1545-BG20

Excise Taxes on Prohibited Tax Shelter Transactions and Related Disclosure Requirements; Disclosure Requirements With Respect to Prohibited Tax Shelter Transactions; Requirement of Return and Time for Filing; Correction

AGENCY: Internal Revenue Service (IRS), Treasury.

ACTION: Corrections to notice of proposed rulemaking by cross-reference to temporary regulations and notice of proposed rulemaking.

SUMMARY: This document contains corrections to notice of proposed rulemaking by cross-reference to temporary regulations (REG-142039-06) and notice of proposed rulemaking (REG-139268-06) that were published in the Federal Register on Friday, July 6, 2007 (72 FR 36927) providing guidance under 4965 of the Internal Revenue Code and relating to entity-level and manager-level excise taxes with respect to prohibited tax shelter transactions to which tax-exempt entities are parties; §§ 6033(a)(2) and 6011(g), relating to certain disclosure obligations with respect to such transactions; and §§ 6011 and 6071, relating to the requirement of a return and time for filing with respect to section 4965 taxes.

FOR FURTHER INFORMATION CONTACT: Concerning the regulations, Galina Kolomietz, (202) 622-6070, or Michael Blumenfeld, (202) 622-1124 (not toll-free numbers). For questions specifically relating to qualified pension plans, individual retirement accounts, and similar tax-favored savings arrangements, contact Dana Barry, (202) 622-6060 (not a toll-free number).

SUPPLEMENTARY INFORMATION:

Background

The notice of proposed rulemaking by cross-reference to temporary regulations and notice of proposed rulemaking that are the subjects of this correction are under sections 6011, 6033, 6071, and 4965 of the Internal Revenue Code.

Need for Correction

As published, proposed regulations (REG-142039-06 and REG-139268-06) contain errors that may prove to be misleading and are in need of clarification.

Correction of Publication

Accordingly, the publication of the proposed regulations (REG-142039-06 and REG-139268-06) which were the subjects of FR Doc.E7-12902), is corrected as follows:

§ 53.4965-4 [Corrected]

1. On page 36933, column 1, § 53.4365-4(c) Example 2., line 12 of the paragraph, the language “by Notice 2006-16 (2006-9 IRB 538). The” is corrected to read “by Notice 2006-16 (2006-9 IRB 538)). The”.

§ 53.4965-8 [Corrected]

2. On page 36936, column 3, § 53.4965-8(e), line 2 of the paragraph, the language “periods. If a transaction (other than a” is corrected to read “periods. If a transaction other than a”.

PART 301—PROCEDURE AND ADMINISTRATION

3. On page 36938, column 1, paragraph 8, line 2, the language “301 continues to read, part, as follows:” is corrected to read “301 continues to read, in part, as follows:”.

§ 301.6011(g)-1 [Corrected]

4. On page 36938, column 1, § 301.6011(g)-1(a)(2)(i), line 4 of the paragraph, the language “of its tax-exempt, tax-indifferent or tax-” is corrected to read “of its tax-exempt, tax indifferent or tax-”.

5. On page 36938, column 1, § 301.6011(g)-1(a)(2)(ii), line 3 of the paragraph, the language “exempt, tax-indifferent or tax-favored” is corrected to read “exempt, tax indifferent or tax-favored”.

§ 301.6033-5 [Corrected]

6. On page 36939, column 1, § 301.6033-5, line 1 of the paragraph, the language “[The text of this section is the same” is corrected to read “[The text of the proposed amendment to § 301.6033-5 is the same”.

LaNita Van Dyke,
Chief, Publications and Regulations Branch, Legal Processing Division, Associate Chief Counsel (Procedure and Administration).

[FR Doc. E7-16080 Filed 8-15-07; 8:45 am]

BILLING CODE 4830-01-P